DEPARTMENT OF THE INTERIOR

National Park Service

[NPS-WASO-PCE-COR-NTS-NPS0027721; PPWOPCADT0, PPMPSPD1T.Y00000 (199); OMB Control Number 1024-0283]

Agency Information Collection Activities; Application for Designation as National Recreation Trail or National Water Trail

AGENCY: National Park Service, Interior.

ACTION: Notice of Information Collection; request for comment.

SUMMARY: In accordance with the Paperwork Reduction Act of 1995, we, the National Park Service (NPS) are proposing to renew an information collection.

DATES: Interested persons are invited to submit comments on or before December 10, 2019.

ADDRESSES: Send your comments on this information collection request (ICR) by mail to Phadrea Ponds, Acting NPS Information Collection Clearance Officer, 1201 Oakridge Drive Fort Collins, CO 80525; or by email at phadrea_ponds@nps.gov; or by telephone at 970-267-7231. Please reference OMB Control Number 1024-0283 in the subject line of your comments.

FOR FURTHER INFORMATION CONTACT: To request additional information about this ICR, contact Peter Bonsall, Acting National Trails System Program Specialist, Acting National Recreation Trails Coordinator for the Department of the Interior 12795 W. Alameda Parkway, Lakewood, CO 80228; or by email at peter_bonsall@nps.gov; or by telephone at 303-969-2620. Please reference OMB Control Number 1024-0283 in the subject line of your comments.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The purpose of this information collection is to assist the NPS in submitting suitable trails or trail systems to the Secretary of the Interior for designation as National Recreation Trails (NRT). This collection is also used to recommend exemplary water trails to the Secretary of the Interior for designation as National Water Trails (NWT) to be included in the National Water Trails System (NWTS). The NPS is authorized to administer the NRT program in section 4 of the National Trails System Act, 16 U.S.C. 1243. Secretarial Order No. 3319 established National Water Trails as a class of National Recreation Trails and directed that such trails collectively be considered in a National Water Trails System.

National Recreation Trail designation provides national recognition to local and regional trails or trail systems, acknowledging local and state efforts to build and maintain viable trails and trail systems. This recognition function is shared by the Secretary of Agriculture for trails on National Forest lands and waters as well as the Secretary of the Interior for all other trails.

The National Water Trails System is focused on building a national network of exceptional water trails that can be sustained by an ever growing and vibrant water trail community. The NWTS connects Americans to the nation's waterways and strengthens the conservation and restoration of those waterways.

The NPS uses two web-based forms, “Application for Designation as National Water Trail” (Form 10-1002), and “Application for Designation as National Recreation Trail” (Form 10-1003), to evaluate for the adherence to requirements and criteria to be designated as National Recreation Trails or National Water Trails. The forms collect the following information: (1) Justification, (2) Contact information, (3) Owner consent and State support (4) Photographs and maps (5) Best management practices, and (6) Additional supporting materials.

Title of Collection: Application for Designation as National Recreation Trail or National Water Trail.

OMB Control Number: 1024-0283.

Form Number: 10-1002, “Application for Designation as National Water Trail” and 10-1003, “Application for Designation as National Recreation Trail”.

Type of Review: Extension of a currently approved collection.

Description of Respondents: Private individuals; businesses; educational institutions; nonprofit organizations; state, tribal, and local governments; and Federal agency land units.

Respondent's Obligation: Required to obtain or retain a benefit.

Frequency of Collection: On occasion.

Total Estimated Annual Nonhour Burden Cost: None.

| Annual respondents | Total annual responses | Avg. time per response (hours) | Total annual burden hours (rounded)
Application for Designation—National Recreation Trails
Individual | 1 | 1 | 8 | 8
Private Sector | 5 | 5 | 8 | 40
State, Local, or Tribal Governments | 6 | 8 | 8 | 64
Application for Designation—National Water Trails
Individual | 1 | 1 | 11 | 11
Private Sector | 2 | 2 | 11 | 22
State, Local, or Tribal Governments | 3 | 3 | 11 | 33
Amendments/Updates—National Recreation Trails
Individual | 1 | 1 | .5 | 1
Private Sector | 1 | 1 | .5 | 1
State, Local, or Tribal Governments | 3 | 3 | .5 | 2
Amendments/Updates—National Water Trails
Individual | 1 | 1 | .5 | 1
Private Sector | 1 | 1 | .5 | 1
State, Local, or Tribal Governments | 1 | 1 | .5 | 1
Total | 26 | 28 |  | 185

An agency may not conduct or sponsor and a person is not required to respond to a collection of information unless it displays a currently valid OMB control number.

The authority for this action is the Paperwork Reduction Act of 1995 (44 U.S.C. 3501 et seq.).

Phadrea Ponds,
Acting Information Collection Clearance Officer, National Park Service.

[FR Doc. 2019-22311 Filed 10-10-19; 8:45 am]

BILLING CODE 4312-52-P